DEPARTMENT OF TRANSPORTATION

Federal Aviation Administration

14 CFR Part 39

[Docket No. FAA-2016-0465; Directorate Identifier 2015-NM-096-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-200 and -300 series airplanes; and Model A340-200 and -300 series airplanes. This proposed AD was prompted by a determination that the compliance times for certain post-repair inspections and certain allowable damage limits (ADLs) must be reduced in order to address fatigue. This proposed AD would require identifying any repairs and ADLs used to assess or control any structural damage on certain structural areas, and corrective action if necessary. We are proposing this AD to prevent fatigue damage on primary structure and structural repairs, which could result in reduced structural integrity of the airplane.

DATES: We must receive comments on this proposed AD by April 4, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-0465; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Comments Invited

We invite you to send any written relevant data, views, or arguments about this proposed AD. Send your comments to an address listed under the ADDRESSES section. Include “Docket No. FAA-2016-0465; Directorate Identifier 2015-NM-096-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2015-0101R1, dated June 12, 2015 (referred to after this as the Mandatory Continuing Airworthiness Information, or “the MCAI”), to correct an unsafe condition for certain Airbus Model A330-200 and -300 series airplanes; and Model A340-200 and -300 series airplanes. The MCAI states:

Result of a fleet survey accomplished in 2008 identified that the nature of flight missions of A330 and A340-200/300 fleets had significantly changed in comparison with assumed usage during the type certification. Consequently, it was decided to recalculate the Structural Repair Manual (SRM) fatigue values to ensure that the given threshold and intervals remain valid.

The results of this recalculation identified reduced thresholds and intervals applicable for repairs and Allowable Damage Limits (ADL) affecting the following areas:

—Door cut-out corners of door surrounding panels (forward cargo door, forward passenger (PAX) door, mid PAX door, emergency exit door/PAX door 3, aft cargo door, bulk cargo door, aft PAX door), on both Left Hand (LH) and Right Hand (RH) sides,

—Stringer (STGR) 9 junction between Frame (FR) 10 and FR13 on both LH and RH sides, and

—Fuselage skin doubler repairs on both LH and RH sides.

Failing to apply the reduced thresholds and intervals, could adversely affect the structural integrity of the aeroplane.

To address this unsafe condition, Airbus issued SRM revision dated April 2013 and temporary revision (TR) 53-001 for the STGR9 junction between FR10 and FR13 area (and subsequent revisions) to introduce reduced thresholds and intervals for the affected ADLs and repairs and issued a set of Service Bulletins (SB) to identify the ADLs used and repairs made, as well as to enable operators to update aeroplane repair records.

Consequently EASA issued AD * * *, to require identification of any repairs and/or ADL used to assess or control any structural damage on certain structural areas and, depending on findings, accomplishment of corrective action(s) [including revising the maintenance or inspection program as applicable to incorporate revised thresholds and intervals and repair].

Since that [EASA] AD was issued, data review confirmed that A330 freighter versions are not affected by the unsafe condition.

This [EASA] AD is revised to remove A330-223F and A330-243F from the Applicability.

You may examine the MCAI in the AD docket on the Internet at http://www.regulations.gov by searching for and locating Docket No. FAA-2016-0465.

Related Service Information Under 1 CFR Part 51

Airbus has issued the following service information. The service information describes procedures for updating the airplane repair records with revised thresholds and intervals.

• Airbus Service Bulletin A330-53-3232, dated November 4, 2014.

• Airbus Service Bulletin A330-53-3233, dated September 26, 2014.

• Airbus Service Bulletin A330-53-3234, dated December 8, 2014.

• Airbus Service Bulletin A330-53-3235, Revision 01, dated January 14, 2015.

• Airbus Service Bulletin A340-53-4222, dated November 25, 2014.

• Airbus Service Bulletin A340-53-4223, dated September 26, 2014.

• Airbus Service Bulletin A340-53-4224, dated December 15, 2014.

• Airbus Service Bulletin A340-53-4225, Revision 01, dated January 14, 2015.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 95 airplanes of U.S. registry. We also estimate that it would take about 2 work-hours per product to comply with the basic requirements of this proposed AD. The average labor rate is $85 per work-hour. Based on these figures, we estimate the cost of this proposed AD on U.S. operators to be $16,150, or $170 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-0465; Directorate Identifier 2015-NM-096-AD.

(a) Comments Due Date

We must receive comments by April 4, 2016.

(b) Affected ADs

None.

(c) Applicability

This AD applies to the airplanes, certificated in any category, identified in paragraphs (c)(1) and (c)(2) of this AD; manufacturer serial numbers (MSNs) 1 through 1,600 inclusive.

(1) Airbus Model A330-201, -202, -203, -223, -243, -301, -302, -303, -321, -322, -323, -341, -342, and -343 airplanes.

(2) Airbus Model A340-211, -212, -213, -311, -312, and -313 airplanes.

(d) Subject

Air Transport Association (ATA) of America Code 53, Fuselage.

(e) Reason

This AD was prompted by a determination that the compliance times for certain post-repair inspections and certain allowable damage limits (ADLs) must be reduced in order to address fatigue. We are issuing this AD to prevent fatigue damage on primary structure and structural repairs, which could result in reduced structural integrity of the airplane.

(f) Compliance

Comply with this AD within the compliance times specified, unless already done.

(g) Records Review

At the applicable times in table 1 to paragraph (g) of this AD, review the airplane maintenance records to identify any structural repair manual (SRM) ADLs used to assess or control any structural damage or any structural repair accomplished as specified in an SRM, as applicable, that have been applied on the areas as specified in table 2 to paragraph (g) of this AD.

Table 1 to Paragraph (g) of This AD—Compliance Times
Affected airplanes | ADL location/repair | Compliance time | Related Service Bulletin
A330-200 Pre-mod 49144 | Mid passenger (PAX) door surround panels | Within 12 months after the effective date of this AD | Airbus Service Bulletin A330-53-3232, dated November 4, 2014.
A330-200 Pre-mod 49144 | Forward cargo door, emergency exit door/PAX door 3, aft cargo door, bulk cargo door, and aft PAX door surround panels | Within 24 months after the effective date of this AD | Airbus Service Bulletin A330-53-3232, dated November 4, 2014.
A330-300 Pre-mod 49144 and A340-200/-300 pre-mod 49144 | Mid PAX door surround panels, forward cargo door, emergency exit door/PAX door 3, aft cargo door, bulk cargo door, and aft PAX door surround panels | Within 24 months after the effective date of this AD | Airbus Service Bulletin A330-53-3232, dated November 4, 2014 or Airbus Service Bulletin A340-53-4222, dated November 25, 2014.
All, Post-mod 40347 | Forward PAX door surround panels with an ADL with a Temporary Life Limit | Within 12 months after the effective date of this AD | Airbus Service Bulletin A330-53-3233, dated September 26, 2014 or Airbus Service Bulletin A340-53-4223, dated September 26, 2014.
All, Post-mod 40347 | Forward PAX door surround panels with an ADL with a Permanent Acceptance | Within 24 months after the effective date of this AD | Airbus Service Bulletin A330-53-3233, dated September 26, 2014 or Airbus Service Bulletin A340-53-4223, dated September 26, 2014.
All | STGR9 junction between frame (FR) 10 and FR13 | Within 12 months after the effective date of this AD | Airbus Service Bulletin A330-53-3235, Revision 01, dated January 14, 2015 or Airbus Service Bulletin A340-53-4225, Revision 01, dated January 14, 2015.
A340-200/-300 Weight Variant (WV)00s | Forward and rear fuselage | Within 12 months after the effective date of this AD | Airbus Service Bulletin A340-53-4224, dated December 15, 2014.
A340-200/-300 WV00s | Nose forward and center fuselage | Within 24 months after the effective date of this AD | Airbus Service Bulletin A340-53-4224, dated December 15, 2014.
A330-200/-300 pre-MOD 49144 and A340-200/-300 WV20s | Forward and rear fuselage, nose forward and center fuselage | Within 24 months after the effective date of this AD | Airbus Service Bulletin A330-53-3234, dated December 8, 2014 or Airbus Service Bulletin A340-53-4224, dated December 15, 2014.
A330-200/-300 post-MOD 49144 and A340-200/-300 post-MOD 49144 | Nose forward and center fuselage | Within 24 months after the effective date of this AD | Airbus Service Bulletin A330-53-3234, dated December 8, 2014 or Airbus Service Bulletin A340-53-4224, dated December 15, 2014.

Table 2 to Paragraph (g) of This AD—Affected Areas
Affected areas (on both left-hand and right-hand sides) | As specified in Airbus Service Bulletin—
Door cut-out corners of door surrounding panels (forward cargo door, mid PAX door, emergency exit door/PAX door 3, aft cargo door, bulk cargo door, aft PAX door) | A330-53-3232, dated November 4, 2014 (for Model A330 series airplanes) or A340-53-4222, dated November 25, 2014 (for Model A340 series airplanes).
Forward PAX door surround panels | A330-53-3233, dated September 26, 2014 (for Model A330 series airplanes) or A340-53-4223, dated September 26, 2014 (for Model A340 series airplanes).
Fuselage skin doubler repairs | A330-53-3234, dated December 8, 2014 (for Model A330 series airplanes) or A340-53-4224, dated December 15, 2014 (for Model A340 series airplanes).
STGR9 junction between FR10 and FR13 | A330-53-3235, Revision 01, dated January 14, 2015 (for Model A330 series airplanes) or A340-53-4225, Revision 01, dated January 14, 2015 (for Model A340 series airplanes).

(h) Corrective Actions

If, during any review required by paragraph (g) of this AD, it is determined that an SRM ADL was used on an area specified in table 2 to paragraph (g) of this AD to assess or control any structural damage, or any structural repair of an area specified in table 2 to paragraph (g) of this AD was accomplished as specified in the instructions of the applicable SRM revision, dated before April 2013 or SRM temporary revision (TR) dated before November 28, 2014: Within the applicable compliance time specified in table 1 to paragraph (g) of this AD, do the actions specified in paragraph (h)(1) or (h)(2) of this AD, as applicable.

(1) Revise the maintenance or inspection program, as applicable, with the applicable revised thresholds and intervals for the identified structural repairs embodied on the airplane, and accomplish all updated inspections, in accordance with the Accomplishment Instructions of the applicable service information identified in table 2 to paragraph (g) of this AD, except as required by paragraphs (h)(1)(i) and (h)(1)(ii) of this AD.

(i) Where the applicable Airbus service information identified in table 2 to paragraph (g) of this AD specifies to contact Airbus for specific assessment, revise the maintenance or inspection program and accomplish all updated inspections, as applicable, using a method approved by the Manager, International Branch, ANM-116, Transport Airplane Directorate, FAA; or the European Aviation Safety Agency (EASA); or Airbus's EASA Design Organization Approval (DOA).

(ii) Where the Airbus applicable service information identified in table 2 to paragraph (g) of this AD specifies “current SRM,” no SRM revision dated before April 2013 or SRM TR dated before November 28, 2014, is considered a “current SRM.”

(2) For any repair that was previously allowed in any revision of the Airbus A330 or A340 SRM, as applicable, dated before April 2013; or in any SRM TR dated before November 28, 2014, to the applicable SRM: Make an assessment using a method approved by the Manager, International Branch, ANM-116, Transport Airplane Directorate, FAA; or the EASA; or Airbus's EASA DOA and perform necessary corrective actions at the applicable times identified therein.

(i) Limitation on Repair/Replacement

As of the effective date of this AD, for any structural damage in the areas identified in table 2 to paragraph (g) of this AD that has exceeded the ADL, no repair or replacement may be done using an Airbus A330 or A340 SRM dated before April 2013, or any SRM TR dated before November 28, 2014.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone: 425-227-1138; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA Design Organization Approval (DOA). If approved by the DOA, the approval must include the DOA-authorized signature.

(3) Required for Compliance (RC): Except as required by paragraphs (h)(1)(i), (h)(1)(ii), and (h)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA AD 2015-0101R1, dated June 12, 2015, for related information. This MCAI may be found in the AD docket on the Internet at http://www.regulations.gov by searching for and locating Docket No. FAA-2016-0465.

(2) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com. You may view this service information at the FAA, Transport Airplane Directorate, 1601 Lind Avenue SW., Renton, WA. For information on the availability of this material at the FAA, call 425-227-1221.

Issued in Renton, Washington, on February 6, 2016.
Michael Kaszycki,
Acting Manager, Transport Airplane Directorate, Aircraft Certification Service.

[FR Doc. 2016-03137 Filed 2-17-16; 8:45 am]

BILLING CODE 4910-13-P